DEPARTMENT OF THE TREASURY

Fiscal Service

Surety Companies Acceptable on Federal Bonds; Change in Business Address: Hudson Insurance Company

AGENCY: Financial Management Service, Fiscal Service, Department of the Treasury.

ACTION: Notice.

SUMMARY: This is Supplement No. 1 to the Treasury Department Circular 570, 2012 Revision, published July 2, 2012, at 77 FR 39322.

FOR FURTHER INFORMATION CONTACT: Surety Bond Branch at (202) 874-6850.

SUPPLEMENTARY INFORMATION: Notice is hereby given that Hudson Insurance Company (NAIC# 25054) has changed its business address to: 100 William Street, 5th Floor, New York, New York, 10038. Federal bond-approving officials should annotate their reference copies of the Treasury Department Circular 570 (“Circular”), 2012 Revision, to reflect this change.

The Circular may be viewed and downloaded through the Internet at www.fms.treas.gov/c570.

Questions concerning this notice may be directed to the U.S. Department of the Treasury, Financial Management Service, Financial Accounting and Services Division, Surety Bond Branch, 3700 East-West Highway, Room 6F01, Hyattsville, MD 20782.

Dated: September 27, 2012.
Laura Carrico,
Director, Financial Accounting and Services Division, Financial Management Service.

[FR Doc. 2012-24780 Filed 10-10-12; 8:45 am]

BILLING CODE 4810-35-M